DEPARTMENT OF ENERGY

Federal Energy Regulatory Commission

[Project No. 943-146]

Public Utility District No. 1 of Chelan County, Washington; Notice of Application for Approval of Contract for the Sale of Power Under Section 22 of the Federal Power Act

Take notice that on February 9, 2024, Public Utility District No. 1 of Chelan County, Washington (Chelan PUD) filed with the Commission an application for approval of a contract for the sale of power from its licensed Rock Island Hydroelectric Project No. 943 for a period beyond the expiration of its existing license for the project. The project is located on the Columbia River in Chelan and Douglas Counties, Washington.

Section 22 of the Federal Power Act, 16 U.S.C. 815, provides that contracts for the sale and delivery of power for periods extending beyond the termination date of a license may be entered into upon the joint approval of the Commission and the appropriate state public service commission or other similar authority in the state in which the sale or delivery of power is made.

Any person desiring to intervene or to protest this filing must file in accordance with Rules 211 and 214 of the Commission's Rules of Practice and Procedure (18 CFR 385.211, 385.214). Protests will be considered by the Commission in determining the appropriate action to be taken but will not serve to make protestants parties to the proceeding. Any person wishing to become a party must file a notice of intervention or motion to intervene, as appropriate. Such notices, motions, or protests must be filed on or before the comment date. Anyone filing a motion to intervene or protest must serve a copy of that document on the Petitioner.

The Commission strongly encourages electronic filing. Please file comments, motions to intervene, notices of intent, and competing applications using the Commission's eFiling system at https://ferconline.ferc.gov/LogIn.aspx. Commenters can submit brief comments up to 6,000 characters, without prior registration, using the eComment system at https://ferconline.ferc.gov/QuickComment.aspx. You must include your name and contact information at the end of your comments. In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-943-146.

More information about this project, including a copy of the application, can be viewed or printed on the “eLibrary” link of Commission's website at http://www.ferc.gov/docs-filing/elibrary.asp. Enter the docket number (P-943-146) in the docket number field to access the document. For assistance, contact FERC Online Support.

Comment Date: 5 p.m. eastern time on March 22, 2024.

Dated: February 21, 2024.
Debbie-Anne A. Reese,
Acting Secretary.

[FR Doc. 2024-04036 Filed 2-26-24; 8:45 am]

BILLING CODE 6717-01-P